DEPARTMENT OF THE INTERIOR

National Park Service

National Park System Advisory Board; Meeting

AGENCY: National Park Service, Interior.

ACTION: Notice of meeting.

Notice is hereby given in accordance with the Federal Advisory Committee Act, 5 U.S.C. Appendix (1994), that the National Park System Advisory Board will meet November 14-16, 2000. The Board will tour Biscayne National Park on November 14, and will convene its business meeting on November 15 and 16 in the Crystal Ballroom of the DoubleTree Hotel Miami Coconut Grove, 2649 South Bayshore Drive, Miami, Florida 33133.

On November 15, the Board will convene from 8:15 a.m. until 5:30 p.m. The Board will reconvene November 16 at 8:15 a.m. and adjourn at approximately 5:30 p.m. National Park Service Deputy Director Denis Galvin will address the Board. The Board will consider procedural matters relative to its study of the future of the National Park Service and the National Park System, and will consider reports from its Landmarks Committee, Cumberland Island Committee, and Revolutionary War and War of 1812 Committee. National Historic Landmark nominations will be reviewed during the report of the Landmarks Committee at the November 16 morning session.

The Board may be addressed at various times by other officials of the National Park Service and the Department of the Interior; and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service, 1849 C Street, NW, Washington, DC 20240 (telephone 202-208-7456).

Draft minutes of the meeting will be available for public inspection about 12 weeks after the meeting, in room 2414, Main Interior Building, 1849 C Street, NW, Washington, DC.

Dated: October 24, 2000.
Robert Stanton,
Director, National Park Service.

[FR Doc. 00-27868 Filed 10-30-00; 8:45 am]

BILLING CODE 4310-70-P